FEDERAL COMMUNICATIONS COMMISSION

Privacy Act of 1974; System of Records.

AGENCY: Federal Communications Commission.

ACTION: Notice of a modified system of records.

SUMMARY: The Federal Communications Commission (FCC, Commission, or Agency) has modified an existing system of records, FCC/OWD-1, Reasonable Accommodation Requests, subject to the Privacy Act of 1974, as amended. This action is necessary to meet the requirements of the Privacy Act to publish in the Federal Register notice of the existence and character of records maintained by the agency. The FCC's Office of Workforce Diversity (OWD) uses this system to provide a method by which the FCC can identify Commission employees who have requested “reasonable accommodations” in their office, work stations, use other FCC facilities, and/or to access other benefits and privileges of employment. Information on the disposition of each request is also maintained in this system.

DATES: This action will become effective on February 11, 2019. Written comments on the system's routine uses are due by March 13, 2019. The routine uses in this action will become effective on March 13, 2019 unless written comments are received that require a contrary determination.

ADDRESSES: Send comments to Leslie F. Smith, Privacy Manager, Information Technology (IT), Room 1-C216, Federal Communications Commission, 445 12th Street SW, Washington, DC 20554, or to Leslie.Smith@fcc.gov.

FOR FURTHER INFORMATION CONTACT: Leslie F. Smith, (202) 418-0217, or Leslie.Smith@fcc.gov (and to obtain a copy of the Narrative Statement and the Supplementary Document, which includes details of the proposed modifications to this system of records).

SUPPLEMENTARY INFORMATION: This notice serves to update and modify FCC/OWD-1 as a result of the various necessary changes and updates, including an increased use of information technology. The substantive changes and modifications to the previously published version of the FCC/OWD-1 system of records include:

1. Updating the language in the Security Classification to follow OMB guidance.

2. Adding information to the Purposes to note that the “request for reasonable accommodation” also includes access to other benefits and privileges of employment.

3. Minor changes to the language in the Categories of Individuals to be consistent with the language and phrasing now used in the FCC's SORNs.

4. Adding the new or revised information that OWD will obtain from FCC Forms 5626 and 5627 as well as minor changes to the language in the Categories of Records to be consistent with the language and phrasing now used in the FCC's SORNs.

5. Updating and/or revising language in five routine uses: (1) Adjudication and Litigation; (2) Law Enforcement and Investigation; (3) Congressional Inquiries; (4) Government-wide Program Management and Oversight; and (5) Labor Relations.

6. Adding three new routine uses: (6) Breach Notification to address the Commission's real or suspected data breach situations; (7) Assistance to Federal Agencies and Entities for assistance with other Federal agencies' data breach situations; and (8) For Non-Federal Personnel to allow contractors performing or working on a contract for the Federal Government access to information. Routine Uses (6) and (7) are required by OMB Memorandum m-17-12.

7. Adding two new sections: (a) Reporting to a Consumer Reporting Agency to address valid and overdue debts owed by individuals to the FCC under the Debt Collection Act, as recommended by OMB; and (b) History to reference the previous publication of this SORN in the Federal Register.

The system of records is also updated to reflect various administrative changes related to the system managers and system addresses; policy and practices for storage and retrieval of the information; administrative, technical, and physical safeguards; and updated notification, records access, and contesting records procedures.

SYSTEM NAME AND NUMBER

FCC/OWD-1, Reasonable Accommodation Requests.

SECURITY CLASSIFICATION:

Unclassified.

SYSTEM LOCATION:

Office of Workplace Diversity (OWD), 445 12th Street SW, Federal Communications Commission (FCC), Washington, DC 20554.

SYSTEM MANAGER(S):

Office of Workplace Diversity (OWD), 445 12th Street SW, Federal Communications Commission (FCC), Washington, DC 20554; and/or Security Operations Center, Federal Communications Commission (FCC), 445 12th Street SW, Washington, DC 20554.

AUTHORITY FOR MAINTENANCE OF THE SYSTEM:

Executive Order (E.O.) 13164, Establishing Procedures to Facilitate the Provision of Reasonable Accommodation; EEOC, Enforcement Guidance on Reasonable Accommodation and Undue Hardship Under the Americans with Disabilities Act, 29 CFR part 1615; Rehabilitation Act of 1973, 29 U.S.C. 12101 et seq.; 29 CFR 1630.

PURPOSE(S) OF THE SYSTEM:

This system provides a method by which the FCC can identify Commission employees who have requested “reasonable accommodations” in their office, work stations, other FCC facilities, and/or to access other benefits and privileges of employment. Information on the disposition of each request is also maintained in this system.

CATEGORIES OF INDIVIDUALS COVERED BY THE SYSTEM:

The categories of records in this system are FCC employees (including, but not limited to full-time and part-time Commission employees, temporary hires, interns, and co-op students.) who have requested reasonable accommodations in their office or workstation or other FCC facility.

CATEGORIES OF RECORDS IN THE SYSTEM:

The categories of records in this system include but are not limited to the information that FCC employees (including, but not limited to full time, part time, temporary hires, interns, and co-op students) must provide by submitting FCC Forms 5626 and 5627.

(a) FCC Form 5626, “Request for Reasonable Accommodations,” includes but is not limited to:

1. Applicant/employee's name, phone number, email address; employee's office, supervisor's name and phone number; and date of request;

2. Type of accommodation(s) requested;

3. Reason for request;

4. Specific information regarding condition, including but not limited to the characteristics of impairment, job function difficulties, current limitation(s), past accommodation(s), specific accommodation(s), permanent or temporary condition(s); and signatures of applicant and receiving official; and

5. FCC-ACC Number (reasonable accommodations number).

(b) FCC Form 5627, “Medical Consent Form,” includes, but is not limited to the applicant's name, address, phone, signature, and date.

(c) Supporting documentation and related materials that substantiate an applicant's request for “reasonable accommodations.”

RECORD SOURCE CATEGORIES:

The sources for the information in this system include, but are not limited to FCC employees and applicants (including, but not limited to full-time and part-time Commission employees, temporary hires, interns, and co-op students), who have submitted FCC Forms 5626 and 5627 to request “reasonable accommodations” in their office, workstation, other FCC facilities, and/or to access other benefits and privileges of employment.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows.

1. Adjudication and Litigation—To disclose information to the Department of Justice (DOJ), or other administrative bodies before which the FCC is authorized to appear, when: (a) The FCC or any component thereof; or (b) any employee of the FCC in his or her official capacity; or (c) any employee of the FCC in his or her individual capacity where DOJ or the FCC has agreed to represent the employee; or (d) the United States is a party to litigation or has an interest in such litigation, and the use of such records by DOJ or the FCC is deemed by the FCC to be relevant and necessary to the litigation.

2. Law enforcement and Investigation—To disclose pertinent information to the appropriate Federal, State, or local agency responsible for investigating, prosecuting, enforcing, or implementing a statute, rule, regulation, or order, where the FCC becomes aware of an indication of a violation or potential violation of civil or criminal law or regulation.

3. Congressional Inquiries—To provide information to a Congressional office from the record of an individual in response to an inquiry from the Congressional office made at the request of that individual.

4. Government-wide Program Management and Oversight—To disclose information to the National Archives and Records Administration (NARA) for use in its records management inspections; to the Government Accountability Office (GAO) for oversight purposes; to the Department of Justice (DOJ) to obtain that department's advice regarding disclosure obligations under the Freedom of Information Act (FOIA); or to the Office of Management and Budget (OMB)to obtain that office's advice regarding obligations under the Privacy Act.

5. Labor Relations—To officials of labor organizations recognized under 5 U.S.C. Chapter 71 upon receipt of a formal request and in accord with the conditions of 5 U.S.C. 7114 when relevant and necessary to their duties of exclusive representation concerning personnel policies, practices, and matters affecting working conditions.

6. Breach Notification—To appropriate agencies, entities, and persons when (a) the Commission suspects or has confirmed that there has been a breach of the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

7. Assistance to Federal Agencies and Entities—To another Federal agency or Federal entity, when the Commission determines that information from this system is reasonably necessary to assist the recipient agency or entity in: (a) Responding to a suspected or confirmed breach or (b) preventing, minimizing, or remedying the risk of harm to individuals, the recipient agency or entity (including its information systems, program, and operations), the Federal Government, or national security, resulting from a suspected or confirmed breach.

8. For Non-Federal Personnel—To disclose information to contractors performing or working on a contract that provides IT services for the Federal Government.

REPORTING TO A CONSUMER REPORTING AGENCY:

In addition to the routine uses listed above, the Commission may share information from this system of records with a consumer reporting agency regarding an individual who has not paid a valid and overdue debt owed to the Commission, following the procedures set out in the Debt Collection Act, 31 U.S.C. 3711(e).

POLICES AND PRACTICES FOR STORAGE OF RECORDS:

Information in this system is maintained as follows:

1. Paper documents and files include, but are not limited to the EEOC Form 557, FCC Form 5626 and 5627 and all accompanying materials including, but not limited to, attachments, documentation substantiating an applicant's request for “reasonable accommodations,” paper copies of email correspondence, notes, and other related records, which are stored in the file cabinets in the OWD office suite; and

2. The electronic file versions (copies of the information obtained from these paper documents and files) of EEOC Form 557, FCC “Reasonable Accommodation Request Questionnaire,” and FCC Forms 5626 and 5627 with attachments, all other accompanying documentation used to substantiate an applicant's request for “reasonable accommodations,” email correspondence, the “Status of EEO Complaints and Accommodations” monthly report charts, and other documents and records, that are stored in the FCC's computer network databases.

POLICIES AND PRACTICES FOR RETRIEVAL OF RECORDS:

1. Information in the Reasonable Accommodation Request information system's paper document files and records is retrieved by searching by the individual's last name or the (corresponding) accommodation identification number.

2. Information in the electronic records and files is retrieved by the individual's last name, accommodation identification number, office/workstation address, bureau/office, and reasonable accommodations request date.

POLICIES AND PRACTICES FOR RETENTION AND DISPOSAL OF RECORDS:

The OWD staff maintains the information in the Reasonable Accommodation Request system in accordance with the National Archives and Records Administration (NARA) General Records Schedule (GRS-2.3) 2.3, items 20 and 21, as follows:

1. The information in the general files is destroyed for three years after being superseded, but longer retention is authorized if required for business use.

2. Employee case files are destroyed three years after employee's separation from the agency or all appeals are concluded, or whichever is later, but longer retention is authorized if required for business use.

Records, files, and data created, received, or maintained for purposes of tracking agency compliance are deleted/destroyed three years after the compliance report is filed or when no longer needed for reference.

Paper document disposition is by shredding, and electronic records and data are destroyed by physical destruction (electronic storage media) or by electronic erasure.

ADMINISTRATIVE, TECHNICAL, AND PHYSICAL SAFEGUARDS:

1. The electronic records, data, and files are maintained in the FCC computer network databases, which are protected by the FCC's IT privacy safeguards, a comprehensive and dynamic set of IT safety and security protocols and features that are designed to meet all Federal IT privacy standards, including those required by the National Institute of Standard and Technology (NIST) and the Federal Information Security Modernization Act of 2014 (FISMA). The protocols cover all electronic records, files, and data, including those that are housed in the FCC's computer network databases, and those information system databases that are housed at the FCC's authorized contractor(s).

2. The paper documents, files, and related materials are stored in approved security containers, which are locked when not in use and/or at the end of the business day. These paper documents are stored in locked file cabinets in the OWD office suite, when not in use and/or at the end of day. These paper documents are destroyed by shredding when no longer needed.

3. Access to the electronic records and files and paper documents is restricted to OWD employees and IT staff and contractors who maintain the FCC's computer network. Other FCC employees and contractors may be granted access to this information, as required, for specific purposes.

RECORD ACCESS PROCEDURES:

Individuals wishing to request access to and/or amendment of records about them should follow the Notification Procedure above.

CONTESTING RECORD PROCEDURES:

Individuals wishing to request an amendment of records about them should follow the Notification Procedure above.

NOTIFICATION PROCEDURES:

Individuals wishing to determine whether this system of records contains information about them may do so by writing to Leslie F. Smith, Privacy Manager, Information Technology, Federal Communications Commission, 445 12th Street SW, Washington, DC 20554, or email Leslie.Smith@fcc.gov.

Individuals must furnish reasonable identification by showing any two of the following: Social security card; driver's license; employee identification card; Medicare card; birth certificate; bank credit card; or other positive means of identification, or by signing an identity statement stipulating that knowingly or willfully seeking or obtaining access to records about another person under false pretenses is punishable by a fine of up to $5,000.

Individuals requesting access must also comply with the FCC's Privacy Act regulations regarding verification of identity and access to records (47 CFR part 0, subpart E).

EXEMPTIONS PROMULGATED FOR THE SYSTEM:

None.

HISTORY:

The FCC previously gave notice of this system of records, FCC/OWD-1, Reasonable Accommodation Requests, by publication in the Federal Register on April 5, 2006 (71 FR 17234, 17268).

Federal Communications Commission.
Marlene Dortch,
Secretary.

[FR Doc. 2019-01800 Filed 2-8-19; 8:45 am]

BILLING CODE 6712-01-P